EQUAL EMPLOYMENT OPPORTUNITY COMMISSION

Agency Information Collection Activities: Revision of the Employer Information Report (EEO-1) Comment Request

AGENCY: Equal Employment Opportunity Commission.

ACTION: Proposed revision of the Employer Information Report (EEO-1).

SUMMARY: In the late 1990's, the Office of Management and Budget (OMB) issued revisions of three standard Federal classifications related to the U.S. Equal Employment Opportunity Commission's Employer Information Report (EEO-1)—the North American Industry Classification System (1997), the Standards for the Classification of Federal Data on Race and Ethnicity (1997), and the Standard Occupational Classification (1999).

In response to the changes in the OMB classification standards, and under § 709(c) of Title VII of the Civil Rights Act of 1964, as amended (42 U.S.C. 200e-8(c)), the U.S. Equal Employment Opportunity Commission (EEOC or Commission) is proposing modifications to the system currently used to classify the race and ethnicity and job categories used by respondents to file annual EEO-1 reports. This notice solicits public comment on the EEOC proposals. The proposed EEO-1 form can be found at http://www.eeoc.gov/eeo1.

DATES: Written comments on this notice must be submitted on or before August 11, 2003. A public hearing concerning these proposed changes will be held on a date and at a time and place to be announced.

ADDRESSES: Comments should be submitted to Frances M. Hart, Executive Officer, Executive Secretariat, Equal Employment Opportunity Commission, 10th floor, 1801 L Street, NW., Washington, DC 20507. The Executive Secretariat will accept comments transmitted by facsimile (“FAX”) machine. The telephone number of the FAX receiver is (202) 663-4114. (This is not a toll-free number.) Only comments of six or fewer pages will be accepted via FAX transmittal. This limitation is necessary to assure access to the equipment. Receipt of a FAX transmittal will not be acknowledged, except that the sender may request confirmation of receipt by calling the Executive Secretariat staff at (202) 663-4070 (voice) or (202) 663-4074 (TDD). (These are not toll-free telephone numbers.) Copies of comments submitted by the public will be available for review at the Commission's library, Room 6502, 1801 L Street, NW., Washington, DC 20507 between the hours of 9:30 a.m. and 5 p.m.

FOR FURTHER INFORMATION CONTACT: Joachim Neckere, Director, Program Research and Surveys Division, 1801 L Street, NW., Room 9222, Washington, DC 20507; (202) 663-4958 (voice) or (202) 663-7063 (TDD).

SUPPLEMENTARY INFORMATION: On October 30, 1997, OMB issued a Federal Register notice (Vol. 62. No. 210, Part II, pp. 58781-58790) titled “Revisions to the Standards for the Classification of Federal Data on Race and Ethnicity.” On September 30, 1999, OMB issued its Notice of final decision for the Standard Occupational Classification system in the Federal Register (Vol. 64. No. 189, Part IV, pp. 53135-53163). These proposed revisions to the EEO-1 respond to these changes in the Federal classification standards. EEOC seeks to avoid burden and disruption by proposing these changes simultaneously.

The Commission is soliciting public comment on its proposals to modify the EEO-1 form to use the revised race and ethnicity and job categories, as well as comments addressing the following points:

(1) Evaluate whether the proposed collection of information is necessary for the proper performance of the Commission's functions, including whether the information will have practical utility;

(2) Evaluate the accuracy of the Commission's estimate of the burden of the proposed collection of information, including the validity of the methodology and assumptions used;

(3) Enhance the quality, utility, and clarity of the information to be collected; and

(4) Minimize the burden of the collection of information on those who are to respond including the use of appropriate automated, electronic, mechanical, or other technological collection techniques or other forms of information technology, e.g., permitting electronic submission of responses.

Persons wishing to present their views orally should notify the Commission of their desire to do so, in writing, no later than [Insert 60 days from the date of publication] with a request to Francis Hart, Executive Officer, Equal Employment Opportunity Commission, 1801 L Street, NW., Washington, DC 20507. The request should include a written summary of the remarks to be offered.

The remainder of this SUPPLEMENTARY INFORMATION section provides the public with access to the information it will need to comment on the EEOC proposals. It is organized into three parts—an overview of the information collection, followed by discussions of the proposed changes for EEO-1 data on race and ethnicity and proposed changes for EEO-1 job category data.

Overview of This Information Collection

Collection Title: Employer Information Report (EEO-1).

OMB Number: OMB Number 3046-0007.

Frequency of Report: Annual.

Type of Respondent: Private industry employers with 100 or more employees and certain Federal Government contractors and first-tier subcontractors with 50 or more employees.

Description of Affected Public: Private industry employers with 100 or more employees and certain Federal Government contractors and first tier subcontractors with 50 or more employees.

| Current | Proposed
Reporting Hours | 402,700 | 644,320
Respondent Cost | $6.0 million | $9.7 million.
Federal Cost | $1.3 million | $2.1 million.
Number of Forms | 1 | 1

Abstract: Section 709(c) of Title VII of the Civil Rights Act of 1964, as amended (42 U.S.C. 2000e-8(c)), requires employers to make and keep records relevant to a determination of whether unlawful employment practices have been or are being committed and to make reports therefrom as required by the EEOC. Accordingly, the EEOC has issued regulations set forth in the Code of Federal Regulations, title 29, chapter XIV, subpart B, Section 1602.7. Employers in the private sector with 100 or more employees and some Federal contractors with 50 or more employees have been required to submit EEO-1 reports annually since 1966. The individual reports are confidential. EEO-1 data are used by EEOC to investigate charges of employment discrimination against employers in private industry and to provide information about the employment status of minorities and women. The data are shared with the Office of Federal Contract Compliance Programs (OFCCP), U.S. Department of Labor, and several other Federal agencies. Pursuant to section 709(d) of Title VII of the Civil Rights Act of 1964, as amended, EEO-1 data are also shared with eighty-six State and local Fair Employment Practices Agencies (FEPAs).

Burden Statement: The estimated number of respondents included in the annual EEO-1 report survey is 45,000 private employers. The estimated number of establishment-based responses per reporting company is between 3 and 4 EEO-1 reports annually. The annual number of responses is approximately 170,000. The proposed form is estimated to impose 644,320 burden hours annually. It is also estimated that the total one time implementation burden for the proposed revision for all reporters will be about 660,000 hours or about $9.9 million. In order to help reduce survey burden, respondents are encouraged to report data electronically whenever possible.

Proposed Changes for EEO-1 Data on Race and Ethnicity

Revised Race/Ethnic Category Definitions

Table 1 below compares the current EEO-1 race/ethnic categories in the first column, as they have appeared on the EEO-1 since 1977, with the proposed EEO-1 race/ethnic categories in the second column. Definitions of the proposed EEO-1 ethnicity and race categories are in accordance with the 1997 revised standards and are as follows:

Ethnicity

Hispanic or Latino—A person of Cuban, Mexican, Puerto Rican, South or Central American, or other Spanish culture or origin, regardless of race.

Race

White—A person having origins in any of the original peoples of Europe, the Middle East, or North Africa.

Black or African American—A person having origins in any of the Black racial groups of Africa.

Native Hawaiian or Other Pacific Islander—A person having origins in any of the original peoples of Hawaii, Guam, Samoa, or other Pacific Islands.

Asian—A person having origins in any of the original peoples of the Far East, Southeast Asia, or the Indian subcontinent including, for example, Cambodia, China, India, Japan, Korea, Malaysia, Pakistan, the Phillipine Islands, Thailand, and Vietnam.

American Indian or Alaska Native—A person having origins in any of the original peoples of North and South America (including Central America), and who maintains tribal affiliation or community attachment.

Two or More Races—All person who identify with more than one of the above five races

Table 1
Current EEO-1 | Proposed EEO-1 (Answer for both male and female)
Hispanic | Hispanic or Latino.
| (This category includes all employees who answe—-YES—to the question—are you Hispanic or Latino?
| Report in the appropriate categories below all employees who answer—No—to the question—are you Hispanic or Latino?
White (Not of Hispanic origin) | White not Hispanic or Latino.
Black (Not of Hispanic origin) | Black or African American not Hispanic or Latino.
Asian or Pacific Islander | Native Hawaiian or Other Pacific Islander not Hispanic or Latino.
| Asian not Hispanic or Latino.
American Indian or Alaskan Native | American Indian or Alaska Native not Hispanic or Latino.
| Two or more Races not Hispanic or Latino.

Race and Ethnicity Reporting Instructions on the Proposed Revised EEO-1 Race and Ethnic Identification

Self identification is the preferred method of identifying the race and ethnic information necessary for the EEO-1 report. Employers are strongly encouraged to rely on employee self-identification to obtain this information. It self-identification is not feasible, post-employment records or observer identification may be used to obtain this information. The following language is suggested for use by employers when collecting race and ethnicity information from employees.

Suggested Employee Questionnaire on Race and Ethnicity

Below are two questions, the first is about your ethnicity and the second about your race. You are to answer both questions. In answering the second question, you may select one or more races. The summarized information is reported to the Federal government for civil rights enforcement and monitoring purposes. For these purposes, if you mark “Yes, Hispanic or Latino”, your race will not be reported. The summarized information on race will be reported in the following categories only:

1. White

2. Black or African American

3. Asian

4. Native Hawaiian or Other Pacific Islander

5. American Indian or Alaska Native

6. Two or More Races

If you select more than one race, you will be reported to the Two or More Races category. For example, if you select Black and American Indian or Alaska Native, you will be reported in the Two or More Races category.

Question 1—Ethnicity

Are our Hispanic or Latino?

___ No, not Hispanic or Latino

___ Yes, Hispanic or Latino: A person of Cuban, Mexican, Puerto Rican, South or Central American, or other Spanish culture or origin, regardless of race.

Question 2—Race

What is your race? Select one or more of the following five race categories.

___ White—A person having origins in any of the original peoples of Europe, the Middle East, or North Africa.

___ Black or African American—A person having origins in any of the Black racial groups of Africa.

___ Asian—A person having origins in any of the original peoples of the Far East, Southeast Asia, or the Indian Subcontinent, including, for example, Cambodia, China, India, Japan, Korea, Malaysia, Pakistan, the Philippine Islands, Thailand, and Vietnam.

___ Native Hawaiian or Other Pacific Islander—A person having origins in any of the peoples of Hawaii, Guam, Samoa, or other Pacific Islands.

___ American Indian or Alaska Native—A person having origins in any of the original peoples of North and South American (including Central America), and who maintains tribal affiliation or community attachment.

Proposed Changes for EEO-1 Job Category Data

Proposed EEO-1 Job Categories

The Commission is also proposing to modify the current EEO-1 job categories by: using the detailed 2000 (SOC) job definitions; cross-classifying them against the 2000 Census Occupational classification codes; aggregating them according to a skill-based schema; and also subdividing the current Officials and Managers category into three distinct hierarchical sub-categories. The proposed EEO-1 job categories would continue to be skill-based rather than industry-based. Consequently, the proposed EEO-1 job categories differ from the 2000 SOC intermediate level aggregation categories and are not comparable. Please see http://www.eeoc.gov/stats/census/crosswalk.html for a detailed crosswalk to the proposed EEO-1 job categories.

The Commission is also proposing to include most business and financial operations occupations in the Officials and Managers category and to split that category into three levels of responsibility, allowing for more detailed assessment of the utilization of minorities and women in these activities. This split would increase the current number of job categories by two. Table 2 compares the current and the proposed EEO-1 job categories:

Table 2.—Current and Proposed EEO-1 Job Categories
Current EEO-1 | Proposed EEO-1
1. Officials and Managers | 1.1 Executive/Senior Level Officials and Managers.
| 1.2 Mid-Level Officials and Managers.
| 1.3 Lower-Level Officials and Managers.
2. Professionals | 2. Professionals.
3. Technicians | 3. Technicians.
4. Sales Workers | 4. Sales Workers.
5. Office and Clerical | 5. Administrative Support Workers.
| 6. Service Workers.
6. Craft Workers (Skilled) | 7. Craft Workers.
7. Operatives (Semi-skilled) | 8. Operatives.
8. Laborers (Unskilled) | 9. Laborers and Helpers.
9. Service Workers

Description of Proposed EEO-1 Job Categories

The proposed EEO-1 job categories are listed below, including a brief description of the skills and training required for occupations in that category, examples of the jobs that fit each category and the ranges of 2000 Census Occupation codes included in the category. Please see http://www.eeoc.gov/stats/census/crosswalk.html for a detailed crosswalk. These job categories are primarily based on average skill levels, knowledge, and responsibility involved in each occupation within the job category. They are not industry based and thus are not directly comparable to the 2000 SOC intermediate aggregation levels. The examples presented below are illustrative and not intended to be exhaustive of all job titles in a job category.

Executive/Senior Level Officials and Managers. Individuals who plan, direct and formulate policies, set strategy and provide the overall direction of companies/organizations for the development and delivery of products or services at a global or national level, within the parameters approved by boards of directors or other governing bodies. Residing in the highest levels of organizations, these executives plan, direct or coordinate activities with the support of subordinate executives and staff managers. Examples of these kinds of managers are: Chief executive officers, chief operating officers, chief financial officers, line of business heads, presidents or executive vice presidents of functional areas or operating groups, chief information officers, chief human resources officers, chief marketing officers, chief legal officers, management directors and managing partners. (2000 Census Occupation Codes: 001-010)

Mid-Level Officials and Managers. Individuals who oversee and direct the delivery of products, services or functions at group, regional or divisional levels of organizations. They get their directions from the executive/senior level management. These jobs include vice president or director. They typically lead departments, divisions, programs, regional offices or other major business units. Through subordinate managers and within parameters established by executive/senior management, they implement policies, processes, products, services, programs and other directives of executive/senior management. Examples of these kinds of managers include: group, regional or divisional controllers; treasurers; human resources; information systems; marketing; and operations managers. (2000 Census Occupation Codes: 011-016)

Lower-Level Officials and Managers. Individuals at functional, line of business segment or branch levels who are responsible for directing and executing the day-to-day operational objectives of companies/organizations, directly supervising the activities of exempt and non-exempt personnel. Reporting to mid-level officials and managers, they may be first-line managers, team or unit managers. Examples of these types of managers include: operations and production managers; branch managers; administrative services managers; purchasing and transportation managers; storage and distribution managers; call center or customer service managers; technical support managers; and brand or product managers. (2000 Census Occupational Codes: 020-043, 050-060, 070-073, 081-095, 470-471, 601, 666, 931)

Professionals. Most jobs in this category require bachelor and graduate degrees, and/or professional, certification, In some instances, comparable experience may establish a person's qualifications. These kinds of positions include: accountants and auditors; airplane pilots and flight engineers; architects; artists; chemists; computer programmers; designers; dietitians; editors; engineers; lawyers; librarians; mathematical scientists; natural scientists; registered nurses; physical scientists; physicians and surgeons; social scientists; teachers; surveyors and similar workers (2000 Census Occupation Codes: 062, 080, 100-153, 160-186, 200-211, 220-243, 255-286, 291-326, 434, 493, 903)

Technicians. Jobs in this category include activities that require applied scientific skills, usually obtained by bachelor degree education, although in some instances additional training, certification, or comparable experience is required. These types of positions include: drafters; emergency medical technicians; dental hygienists; and licensed vocational nurses. (2000 Census Occupation Codes: 154-156, 190-196, 290, 300-354, 904)

Sales Workers. These jobs include non-managerical activities that wholly and primarily involve direct sales. These types of positions: include: advertising sales agents; insurance sales agents; real estate brokers and sales agents; wholesale and retail sales agents; securities, commodities, and financial services sales agents; personal financial advisors; telemarketers; demonstrators; retail sales workers; counter and rental clerks; and cashiers. (2000 Census Occupation Codes: 470-492, 494-496)

Administrative Support Workers. These jobs involve non-managerial tasks providing administrative and support assistance, primarily in office settings. These types of positions include: office and administrative support workers; bookkeepers; accounting and auditing clerks; cargo and freight agents; dispatchers; couriers; data entry keyers; computer operators; shipping receiving and traffic clerks; word processors and typists; proofreaders; desktop publishers; and general office clerks. (2000 Census Occupation Codes: 214-215, 244-254, 500-593)

Service Workers. This overall category includes four subcategories, covering food service, cleaning service, personal service, and protective service activities. Skill may be acquired through formal training, job-related training or direct experience. Food service positions include: cooks, bartenders and other food service workers. Personal service positions include: medical assistants and other healthcare support positions; hairdressers; ushers; and transportation attendants. Cleaning service positions include: cleaners, janitors, and porters. The protective service worker subcategory includes: transit and railroad police and fire fighters; guards; private detectives; and investigators. (2000 Census Occupation Codes: 360-420, 422-224, 430-432, 440-465)

Craft Workers. This category includes higher skilled occupations in construction (building trades craft workers and their formal apprentices) and natural resource extraction workers. Examples include: boilermakers; brick and stone masons; carpenters; electricians; painters (both construction and maintenance); glazers, pipe-layers; pipe-fitters and plumbers; plasterers; roofers; elevator installers; earth-drillers; derrick operators, oil and gas rotary drill operators; and blasters and explosive workers. Also includes occupations related to the installation, maintenance and part-replacement of equipment, machines and tools, such as automotive mechanics; aircraft mechanics, electric and electronic equipment repairers. This category also contains some production occupations that are distinguished by the high degree of skill and precision required to perform them, based on clearly-defined task specifications, such as millwrights; etchers and engravers; tool and die makers; and pattern makers. (2000 Census Occupation Codes: 620-625, 630-653, 670-674, 676-756, 762-770, 774, 803, 806, 813, 816, 823, 825, 833, 835, 845, 850-851, 855-862, 875-876, 891, 951-952)

Operatives. This category includes intermediate skilled occupations and includes workers who operate machines or factory-related processing equipment. Most of these occupations do not usually require more than several months of training. Examples include: textile machine workers; laundry and dry cleaning workers; milliners; photographic process workers; weaving machine operators; electrical and electronic equipment assemblers; semiconductor processors; testers and graders; bakers; and butchers or other meat, poultry or fish-processing workers. Also includes occupations of generally intermediate skill levels that are concerned with operating and controlling equipment to facilitate the movement of people or materials, such as: bridge and lock tenders; truck, bus or taxi driver; industrial truck and tractor (forklift) operators; parking lot attendants; sailors; conveyor operators; and hand-packers and packagers. (2000 Census Occupation Codes: 604, 771-773, 775-801, 804, 810, 814-815, 820-822, 824, 826-832, 834, 836-842, 846, 853-854, 863-874, 880-886, 892-894, 896, 900, 912-930, 933-935, 941-942, 956-960, 964-965, 975)

Laborers and Helpers. This category includes workers with more limited skills who require only brief training to perform tasks that require little or no independent judgment. Examples include: production and construction worker helpers; vehicle and equipment cleaners; laborers; freight, stock and material movers; service station attendants; construction laborers, refuse and recyclable materials collectors; septic tank servicers; and sewer pipe cleaners. (2000 Census Occupation Codes: 421, 425, 435, 600, 605-613, 626, 660, 675, 761, 895, 936, 961-963, 972)

Dated: June 4, 2003.
For the Commission.
Cari M. Dominguez,
Chair.

[FR Doc. 03-14739 Filed 6-10-03; 8:45 am]

BILLING CODE 6570-01-M